ENVIRONMENTAL PROTECTION AGENCY

40 CFR Parts 51 and 52

[FRL-6567-1]

Notice of Availability for Draft Guidance Document on BACT and LAER for Tier2/Gasoline Sulfur Refinery Projects

AGENCY: Environmental Protection Agency (EPA).

ACTION: Notice of availability.

SUMMARY: The EPA is making available for public review and comment a preliminary draft of its pending guidance on BACT and LAER for Tier 2/gasoline sulfur refinery projects.

On February 10, 2000, EPA issued new emissions standards (“Tier 2 standards”) for all passenger vehicles, including sport utility vehicles, minivans, vans and pick-up trucks. To ensure the effectiveness of low emission control technologies in these vehicles, this rule also sets new standards to significantly reduce the sulfur content in gasoline. In order to meet these sulfur in gasoline requirements, many refiners will have to make modifications to their existing facilities, which could be subject to the major new source review (NSR) preconstruction permitting requirements under parts C and D of the Clean Air Act. The refiners subject to major NSR will be required to undergo a pollution control technology evaluation to apply either best available control technology (BACT) or lowest achievable emission rate (LAER), depending on the applicable program requirements. To provide greater certainty and to expedite the NSR permitting process for refinery projects undertaken to comply with the recently issued gasoline sulfur standards, EPA intends to provide Federal guidance on BACT and LAER for these type of projects.

A draft of EPA's guidance and a supporting background document on BACT and LAER for certain refinery construction projects undertaken to comply with the new gasoline sulfur standards is available for public review and comment. The EPA does not intend to respond to individual comments, but rather to consider comments and information from the public in the preparation of a final guidance document.

DATES: The comment period on the draft guidance will close on April 27, 2000.

ADDRESSES: Comments should be sent to Pamela J. Smith, Information Transfer and Program Integration Division (MD-12), Office of Air Quality Planning and Standards, U.S. EPA, Research Triangle Park, North Carolina 27711, telephone 919-541-0641, telefax 919-541-5509 or E-mail smith.pam@epa.gov.

FOR FURTHER INFORMATION CONTACT: David Solomon, Information Transfer and Program Integration Division (MD-12), Office of Air Quality Planning and Standards, U.S. EPA, Research Triangle Park, North Carolina 27711, telephone 919-541-5375, telefax 919-541-5509 or E-mail solomon.david@epa.gov.

SUPPLEMENTARY INFORMATION: A copy of the draft guidance document and a supporting technical background document may be obtained by calling or E-mailing Pamela J. Smith. The draft guidance may also be downloaded from the NSR Website http://www.epa.gov/ttn/nsr under the topic “What's New on NSR.”

Dated: March 17, 2000.
Jeffrey Clark,
Acting Director, Office of Air Quality Planning and Standards.

[FR Doc. 00-7718 Filed 3-27-00; 8:45 am]

BILLING CODE 6560-50-P